DEPARTMENT OF THE TREASURY

Departmental Offices: Proposed Collections; Comment Requests

ACTION: Notice and request for comments.

SUMMARY: The Department of the Treasury, as part of its continuing effort to reduce paperwork burdens, invites the general public and other Federal agencies to comment on two information collections that are due for revision approval by the Office of Management and Budget. The Office of Program Services within the Department of the Treasury is soliciting comments concerning Treasury International Capital Form BC/BC(SA), Reporting Bank's Own Claims, and Selected Claims of Broker or Dealer, on Foreigners, Denominated in Dollars; and Treasury International Capital Form BL-1/BL-1(SA), Reporting Bank's Own Liabilities, and Selected Liabilities of Broker or Dealer, to Foreigners, Denominated in Dollars.

DATES: Written comments should be received on or before August 14, 2000 to be assured of consideration.

ADDRESSES: Direct all written comments to Dwight Wolkow, Administrator, International Portfolio Investment Data Systems, Department of the Treasury, Room 5205 MT, 1500 Pennsylvania Avenue NW, Washington, DC 20220.

FOR FURTHER INFORMATION CONTACT: Copies of the proposed revised forms and instructions are available at the Related Links section of Treasury's TIC Capital Movements website: http://www/ustreas.gov/tic/. Requests for additional information should be directed to Dwight Wolkow, Administrator, International Portfolio Investment Data Systems, Department of the Treasury, Room 5205 MT, 1500 Pennsylvania Avenue NW, Washington, DC 20220, phone (202) 622-1276, FAX (202) 622-7448.

SUPPLEMENTARY INFORMATION: Titles: Treasury International Capital Form BC/BC(SA), Reporting Bank's Own Claims, and Selected Claims of Broker or Dealer, on Foreigners, Denominated in Dollars; and Treasury Capital Form BL-1/BL-1(SA), Reporting Bank's Own Liabilities, and Selected Liabilities of Broker or Dealer, to Foreigners, Denominated in Dollars.

OMB Control Numbers: 1505-0017 and 1505-0019.

Abstracts: Forms BC/BC(SA) and BL-1/BL-1(SA) are part of the Treasury International Capital (TIC) reporting system, which is required by law (22 U.S.C. 286f; 22 U.S.C. 3103; E.O. 10033; 31 CFR part 128), and is designed to collect timely information on international portfolio capital movements. Form BC is a monthly report (with a semiannual supplement) that covers own U.S. dollar claims of banks, other depository institutions, brokers and dealers vis-a-vis foreign residents. Form BL-1 is a monthly report (with a semiannual supplement) that covers own U.S. dollar liabilities of banks, other depository institutions, brokers and dealers vis-a-vis foreign residents. This information is necessary for compiling the U.S. balance of payments accounts, for calculating the U.S. international investment position, and for formulating U.S. international financial and monetary policies.

Current Actions: (a) The exemption level for reporting positions will be raised from $15 million at end-month; institutions will be exempt from reporting if they had both; (1) less than $50 million at end-month to report; and (2) they had less than $25 million at end-million to report vis-a-vis all counterparties in any one country; (b) There will be a reduction in the reporting of International Banking Facilities (IBFs) so that banking organizations will report on a consolidated basis. An addendum row will be added to the bottom of the forms to report total IBF assets and total IBF liabilities by sector/instrument; (c) The geographic detail will increase slightly by adding lines for Luxembourg, the combined Channel Islands & Isle of Man, New Zealand, the Caribbean region, and the European Central Bank. The British West Indies line will be replaced with a Cayman Islands line; (d) One memorandum column and one memorandum row will be added to the BC/BC(SA) and BL-1/BL-1(SA) forms to collect the dollar amount of positions collateralized through repurchase or reverse repurchase agreements (“repos”). The forms will be redesigned so they will be available for downloading from the TIC web site. These changes will be effective as of January 31, 2001.

Type of Review: Revision of a currently approved collection.

Affected Public: Business or other for-profit organizations.

Form BC/BC(SA) (1505-0017).

Estimated Number of Respondents: 355 (semiannual 110).

Estimated Average Time per Respondent: Eight (8) hours per respondent per filing.

Estimated Total Annual Burden Hours: 35,840 hours, based on 12 reporting periods per year.

Form BL-1/BL-1(SA) (1505-0019).

Estimated Number of Respondents: 415 (semiannual 175).

Estimated Average Time per Respondent: Eight (8) hours per respondent per filing.

Estimated Total Annual Burden Hours: 42,640 hours, based on 12 reporting periods per year.

Request for Comments

Comments submitted in response to this notice will be summarized and/or included in the requests for OMB approval. All comments will become a matter of public record. The public is invited to submit written comments concerning: whether Forms BC/BC(Sa) and BL-1/BL-1(SA) all necessary for the proper performance of the functions of the Office, including whether the information collected has practical uses; the accuracy of the above burden estimates; ways to enhanced the quality, usefulness, and clarity of the information to be collected; ways to minimize the reporting and/or record keeping burdens on respondents, including the use of information technologies to automate the collection of the data; and estimates of capital or start-up costs of operation, maintenance, and purchases of services to provide information.

Dwight Wolkow,
Administrator, International Portfolio Investment Data Systems.

[FR Doc. 00-15064 Filed 6-14-00; 8:45 am]

BILLING CODE 4810-25-M